DEPARTMENT OF AGRICULTURE

Forest Service

Information Collection; Request for Comments; Publication Comment Cards

AGENCY: Forest Service, USDA.

ACTION: Notice.

SUMMARY: In accordance with the Paperwork Reduction Act of 1995, the Forest Service announces its intention to extend an information collection. The Southern Research Station disseminates research publications to individuals, institutions, organizations, and interest groups. Information is collected from those who receive the scientific research publications. The collected information enables the Forest Service to assess the value to the customer of these publications.

DATES: Comments on this notice must be received in writing on or before May 11, 2004.

ADDRESSES: Comments concerning this notice should be sent to Communications Office, Southern Research Station, Forest Service, USDA, P.O. Box 2680, Asheville, NC 28802.

Comments also may be submitted via facsimile to (828) 257-4838 or by e-mail to mcarlson01@fs.fed.us.

The public may inspect comments received at the Southern Research Station, 200 W.T. Weaver Boulevard, Asheville, North Carolina. Visitors are encouraged to call ahead to (828) 257-4838 to facilitate entry into the building.

FOR FURTHER INFORMATION CONTACT: Melissa Carlson, Communications Office, (828)257-4849. Individuals who use telecommunication devices for the deaf (TDD) may call the Federal Relay Service (FRS) at 1-800-877-8339 twenty-four hours a day, every day of the year, including holidays.

SUPPLEMENTARY INFORMATION:

Title: Publication Comment Card.

OMB Number: 0596-0163.

Expiration Date of Approval: July 31, 2004.

Type of Request: Extension.

Abstract: Executive Order 12862, issued September 11, 1993, directed Federal agencies to change the way they do business, to reform their management practices, and to provide service to the public that matches or exceeds the best service available in the private sector. In response to this Executive Order, the Forest Service Southern Research Station developed a “Publication Comment Card” for inclusion when distributing scientific research publications.

Since the early 1920's, Forest Service scientists have published the results of their studies about national forests and forest resources and products, in addition to their conclusions about the dynamics of natural timber stands and plantations, watershed and wildlife management, and recreational activities. These studies have provided long-term data that have become increasingly valuable to landowners and others involved in natural resource and land management. Data from the Publication Comment Cards help Forest Service research stations determine if publications meet customers' expectations and address customers' needs. The collected information also helps scientists and authors provide relevant information on effective, efficient, responsible land management in the United States.

Forest Service research personnel enclose Publication Comment Cards when providing publications to recipients in person or by mail. Public Comment Cards and most research station publications also are made available via the Internet. Public Comment Cards include the following statements that will be rated on a scale of 1 to 5, with 1 being “Strongly Agree” and 5 being “Strongly Disagree.”

1. The information is what I expected, based on the title and abstract.

2. This publication is well organized.

3. The content is presented clearly.

4. The technical subject matter was explained sufficiently to meet my needs.

5. The graphics (photographs, tables, charts) were helpful.

6. This research information is useful to me.

7. I will continue to request Research Station publications.

Respondents complete Publication Comment Cards and return them in person or mail them back to the Forest Service via surface mail or electronically via the Internet.

Data gathered in this information collection are not available from other sources.

Estimate of Burden: 5 minutes.

Type of respondents: Respondents include citizens of the United States and of other countries; landowners or land lessees; timber and other forest-product customers; research scientists; forestry consultants; educators, librarians, and historians; representatives of other Federal, State, county, or local government agencies and representatives of foreign governments.

Estimated Number of Respondents: 22,000.

Estimated Number of Responses per Respondent: 1.

Estimated Total Annual Burden on Respondents: 1,833 hours.

Comment is invited on: (a) Whether the proposed collection of information is necessary for the stated purposes and the proper performance of the functions of the agency, including whether the information will have practical or scientific utility; (b) the accuracy of the agency's estimate of the burden of the proposed collection of information, including the validity of the methodology and assumptions used; (c) ways to enhance the quality, utility, and clarity of the information to be collected; and (d) ways to minimize the burden of the collection of information on respondents, including the use of automated, electronic, mechanical, or other technological collection techniques or other forms of information technology.

Use of Comments

All comments received in response to this notice, including name and address when provided, will become a matter of public record and will be available for public inspection and copying. Comments will be summarized and included in the request for Office of Management and Budget approval.

Dated: March 5, 2004.
Ann M. Bartuska,
Deputy Chief for Research & Development.

[FR Doc. 04-5629 Filed 3-11-04; 8:45 am]

BILLING CODE 3410-11-P